DEPARTMENT OF ENERGY

Federal Energy Regulatory Commission

[Docket No. CP06-127-000]

Gulf South Pipeline Company, LP; Notice of Request Under Blanket Authorization

April 25, 2006.

Take notice that on April 14, 2006, Gulf South Pipeline Company, LP (Gulf South), 20 East Greenway, Houston, Texas 77046, filed in Docket No. CP06-127-000, a request pursuant to sections 157.205 and 157.208 of the Commission's regulations under the Natural Gas Act, 18 CFR 157.205 and 157.208 (2005), and its blanket certificate issued in Docket No. CP82-430-000 for authorization to construct, own and operate 20.5 miles of 42-inch pipeline loop beginning at its existing Carthage Junction Compressor Station, located near the town of Carthage in Panola County, Texas, to a tie-in with existing transmission lines (Indexes 266 and 266 Loop) located near the town of Keatchie in DeSoto Parish, Louisiana. The 42-inch pipeline will be installed adjacent to Gulf South's existing 24-inch pipeline (Index 266) for the entire length. In addition, Gulf South proposes to construct a new meter station and interconnecting facilities with Houston Pipeline Company and other auxiliary facilities within the existing Carthage Junction Compressor Station yard. This filing is available for review at the Commission in the Public Reference Room or may be viewed on the Web at http://www.ferc.gov using the “eLibrary” link. Enter the docket number excluding the last three digits in the docket number field to access the document. For assistance, contact FERC at FERCOnlineSupport@gerc.gov or call toll-free, (886) 208-3676 or TYY, (202) 502-8659.

Gulf South states in its filing, that over the last several years the amount of natural gas production in East Texas has increased dramatically, and that this new production has strained the capabilities of the existing pipeline infrastructure capable of transporting natural gas out of Texas. Gulf South indicates that their existing firm transportation capacity from East Texas is currently sold out through 2009 because the current price of natural gas in East Texas is low, as compared to the price of natural gas in other supply areas connected to Gulf South. Accordingly, Gulf South states that its customers have requested additional capacity for firm transportation from this area.

Any person or the Commission's Staff may, within 45 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Any questions regarding this application should be directed to J. Kyle Stephens, Director of Certificates, Gulf South Pipeline Company, LP, 20 East Greenway Plaza, Houston, Texas, 77046, or call (713) 544-7309 or fax (713) 544-3540 or by e-mail kyle.stephens@gulfsouthpl.com.

The Commission strongly encourages electronic filings of comments, protests, and interventions via the Internet in lieu of paper. See 18 CFR 385.2001(a) (1) (iii) and the instructions on the Commission's Web site (http://www.ferc.gov) under the “e-Filing” link.

Magalie R. Salas,
Secretary.

[FR Doc. E6-6560 Filed 5-1-06; 8:45 am]

BILLING CODE 6717-01-P